DEPARTMENT OF COMMERCE

International Trade Administration

[C-533-870]

Certain Pneumatic Off-the-Road Tires From India: Rescission of Countervailing Duty Administrative Review; 2016-2017

AGENCY: Enforcement and Compliance, International Trade Administration, Department of Commerce.

SUMMARY: The Department of Commerce (Commerce) is rescinding the administrative review of the countervailing duty (CVD) order on certain pneumatic off-the-road tires (OTR tires) from India for the period June 20, 2016, through December 31, 2017.

DATES: Applicable August 21, 2018.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On March 5, 2018, Commerce published a notice of opportunity to request an administrative review of the CVD order on OTR tires from India for the period of review (POR) June 20, 2016, through December 31, 2017.¹ Commerce received timely-filed requests to conduct an administrative review of the CVD order from ATC Tires Private Limited (ATC) and Balkrishna Industries Limited (Balkrishna).² Based on these requests, and in accordance with section 751(A) of the Tariff Act of 1930, as amended (the Act), on May 2, 2018, Commerce initiated an administrative review of the CVD order on OTR tires from India.³ On May 24, 2018, and June 12, 2018, Balkrishna and ATC, respectively, each timely withdrew its request for an administrative review.⁴ No other party requested an administrative review.

¹ See Antidumping or Countervailing Duty Order, Finding, or Suspended Investigation; Opportunity To Request Administrative Review, 83 FR 9284 (March 5, 2018).

² See Letter from ATC, “Certain New Pneumatic Off-the-Road Tires from India: ATC Tires Private Limited's Request for Administrative Review,” dated March 30, 2018, and Letter from Balkrishna, “Certain New Pneumatic Off-the-Road Tires from India; Request for Administrative Review of Balkrishna Industries Limited,” dated April 2, 2018.

³ See Initiation of Antidumping and Countervailing Duty Administrative Reviews, 83 FR 19215 (May 2, 2018).

⁴ See Letter from Balkrishna, “Certain New Pneumatic Off-the-Road Tires from India; Withdrawal of Request for Review for Balkrishna Industries Limited,” dated May 24, 2018, and Letter from ATC, “Certain New Pneumatic Off-the-Road Tires from India: ATC Tires Private Limited's Withdrawal of Request for Administrative Review,” dated June 12, 2018.

Rescission of Review

Pursuant to 19 CFR 351.213(d)(1), Commerce will rescind an administrative review, in whole or in part, if the party, or parties, that requested the review withdraw(s) its request(s) for review within 90 days of the date of publication of the notice of initiation of the requested review. In this case, both Balkrishna and ATC each timely withdrew its request for review within the 90-day deadline, and no other party requested an administrative review of the CVD order. Therefore, in accordance with 19 CFR 351.213(d)(1), Commerce is rescinding this administrative review in its entirety.

Assessment

Commerce will instruct U.S. Customs and Border Protection (CBP) to assess countervailing duties on all appropriate entries. Because Commerce is rescinding this administrative review in its entirety, entries of OTR tires from India during the period June 20, 2016, through December 31, 2017, shall be assessed countervailing duties at rates equal to the cash deposit of estimated countervailing duties required at the time of entry, or withdrawal from warehouse, for consumption, in accordance with 19 CFR 351.212(c)(1)(i). Commerce intends to issue appropriate assessment instructions to CBP 15 days after the publication of this notice in the Federal Register.

Notification Regarding Administrative Protective Order

This notice serves as a final reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation which is subject to sanction.

This notice is issued and published in accordance with sections 751(a)(1) and 777(i)(1) of the Act, and 19 CFR 351.213(d)(4).

Dated: August 13, 2018.
James Maeder,
Associate Deputy Assistant Secretary for Antidumping and Countervailing Duty Operations performing the duties of Deputy Assistant Secretary for Antidumping and Countervailing Duty Operations.

[FR Doc. 2018-17786 Filed 8-20-18; 8:45 am]

BILLING CODE 3510-DS-P